SMALL BUSINESS ADMINISTRATION

[License No. 04/04-0314]

KLH Capital Fund II, L.P.; Surrender of Small Business Investment Company License

Pursuant to the authority granted to the United States Small Business Administration under the Small Business Investment Act of 1958, as amended, under Section 309 of the Act and § 107.1900 of the Small Business Administration Rules and Regulations (13 CFR 107.1900) to function as a small business investment company under the Small Business Investment Company License No. 04/04-0303 issued to KLH Capital Fund II, L.P. said license is hereby declared null and void.

United States Small Business Administration.
Christopher L. Weaver,
Acting Associate Administrator, Office of Investment and Innovation.

[FR Doc. 2020-14293 Filed 7-1-20; 8:45 am]

BILLING CODE P